ENVIRONMENTAL PROTECTION AGENCY

[FRL-9497-1]

Notification of a Public Teleconference of the Chartered Science Advisory Board

AGENCY: Environmental Protection Agency (EPA).

ACTION: Notice.

SUMMARY: The EPA Science Advisory Board (SAB) Staff Office announces a public teleconference of the Chartered SAB on December 21, 2011 to conduct a quality review of a draft SAB report, a draft Advisory on EPA Draft Document “Considerations Related to Post-Closure Monitoring of Uranium In-Situ ISL/ISR Sites.”

DATES: The public teleconference will be held on December 21, 2011 from 2:30 p.m. to 5 p.m. (Eastern Time).

ADDRESSES: The public teleconference will be conducted by telephone only.

FOR FURTHER INFORMATION CONTACT: Any member of the public wishing to obtain general information concerning the public teleconference may contact Dr. Angela Nugent, Designated Federal Officer (DFO). Dr. Nugent may be contacted at the EPA Science Advisory Board (1400R), U.S. Environmental Protection Agency, 1200 Pennsylvania Avenue NW., Washington, DC 20460; or by telephone/voice mail at (202) 564-2218; fax at (202) 565-2098; or email at nugent.angela@epa.gov. General information concerning the EPA Science Advisory Board can be found on the EPA Web site at http://www.epa.gov/sab.

SUPPLEMENTARY INFORMATION: The SAB was established pursuant to the Environmental Research, Development, and Demonstration Authorization Act (ERDAA), codified at 42 U.S.C. 4365, to provide independent scientific and technical advice to the EPA Administrator on the technical basis for Agency positions and regulations. The SAB is a Federal Advisory Committee chartered under the Federal Advisory Committee Act (FACA), 5 U.S.C., App. 2. Pursuant to FACA and EPA policy, notice is hereby given that the SAB will hold a public teleconference to conduct a quality review of a draft SAB report, a draft Advisory on EPA Draft Document “Considerations Related to Post-Closure Monitoring of Uranium In-Situ ISL/ISR Sites.” The SAB will comply with the provisions of FACA and all appropriate SAB Staff Office procedural policies.

Background

EPA's Office of Air and Radiation (OAR) has requested SAB advice related to EPA's review of its regulatory standards in 40 CFR Part 192—Health and Environmental Protection Standards for Uranium and Thorium Mill Tailings in regard to underground In-Situ Leach Recovery (ISL/ISR) facilities.

EPA is authorized to develop standards for the protection of public health, safety, and the environment from radiological and non-radiological hazards associated with residual radioactive materials. The Agency is currently undertaking a review to determine if the existing standards, last revised by EPA in 1995, should be updated. The expectation is that ISL/ISR operations will be the most common type of new uranium extraction facility in the United States. These facilities can affect groundwater. Accordingly, EPA is seeking scientific advice and relevant technical criteria to establish standards and procedures, including the relevant period of monitoring for ISL/ISR facilities, once uranium extraction operations are completed, in order to provide reasonable assurances of aquifer stability and groundwater protection. Background information about this advisory activity can be found on the SAB Web site at http://yosemite.epa.gov/sab/sabproduct.nsf/fedrgstr_activites/Monitoring%20ISL?OpenDocument.

Availability of Meeting Materials

The agenda and other materials in support of the teleconference will be placed on the SAB Web site at http://www.epa.gov/sab in advance of the teleconference.

Procedures for Providing Public Input

Public comment for consideration by EPA's federal advisory committees and panels has a different purpose from public comment provided to EPA program offices. Therefore, the process for submitting comments to a federal advisory committee is different from the process used to submit comments to an EPA program office.

Federal advisory committees and panels, including scientific advisory committees, provide independent advice to EPA. Members of the public can submit comments for a federal advisory committee to consider as it develops advice for EPA. Input from the public to the SAB will have the most impact if it provides specific scientific or technical information or analysis for the SAB to consider or if it relates to the clarity or accuracy of the technical information. Members of the public wishing to provide comment should contact the Designated Federal Officer directly.

Oral Statements

In general, individuals or groups requesting an oral presentation at a teleconference will be limited to three minutes. Those interested in being placed on the public speakers list for the December 21, 2011 teleconference should contact Dr. Nugent at the contact information provided above no later than December 14, 2011.

Written Statements

Written statements should be supplied to the DFO via email at the contact information noted above by December 14, 2011 for the teleconference so that the information may be made available to the Panel members for their consideration. Written statements should be supplied in one of the following electronic formats: Adobe Acrobat PDF, MS Word, MS PowerPoint, or Rich Text files in IBM-PC/Windows 98/2000/XP format. It is the SAB Staff Office general policy to post written comments on the web page for the advisory meeting or teleconference. Submitters are requested to provide an unsigned version of each document because the SAB Staff Office does not publish documents with signatures on its Web sites. Members of the public should be aware that their personal contact information, if included in any written comments, may be posted to the SAB Web site.

Copyrighted material will not be posted without explicit permission of the copyright holder.

Accessibility

For information on access or services for individuals with disabilities, please contact Dr. Nugent (202) 564-2218 or nugent.angela@epa.gov. To request accommodation of a disability, please contact Dr. Nugent preferably at least ten days prior to the teleconference to give EPA as much time as possible to process your request.

Dated: November 18, 2011.
Vanessa T. Vu,
Director, EPA Science Advisory Board Staff Office.

.

[FR Doc. 2011-30556 Filed 11-25-11; 8:45 am]

BILLING CODE 6560-50-P